FEDERAL MINE SAFETY AND HEALTH REVIEW COMMISSION

Sunshine Act Meetings

TIME AND DATE: 10 a.m., Friday, January 10, 2025.

PLACE: The meeting will be held via remote means.

STATUS: Closed.

MATTERS TO BE CONSIDERED: The Commission will conduct a meeting closed to the public to consider the Commission's response, if any, to show cause orders issued by the D.C. Circuit Court of Appeals in D.C. Cir. No. 24-1293 (and consolidated case D.C. Cir. No. 24-1356), and D.C. Cir. No. 24-1294 (and consolidated case DC Cir No. 24-1357). Commissioners will attend the meeting. Commission staff members who provide technological support and other Commission staff may also be present as necessary. This meeting is closed to the public pursuant to 5 U.S.C. 552b(c)(10) on the basis of the Commission's “participation in a civil action or proceeding.” The Commission determined that shorter than usual notice for a meeting was required by official agency business.

CONTACT PERSON FOR MORE INFO: Sarah Stewart (202) 434-9935/(202) 708-9300 for TDD Relay/1-800-877-8339 for toll free.

Authority: 5 U.S.C. 552b.

Dated: January 8, 2025.
Sarah L. Stewart,
Deputy General Counsel.

[FR Doc. 2025-00681 Filed 1-8-25; 4:15 pm]

BILLING CODE 6735-01-P